DEPARTMENT OF STATE

22 CFR Part 126

[Public Notice: 6368]

Amendment to the International Arms Traffic in Arms Regulations: Rwanda

AGENCY: Department of State.

ACTION: Final rule.

SUMMARY: The Department of State is removing Rwanda from its regulations on prohibited exports and sales to certain countries as a result of United Nations Security Council (UNSC) Resolution 1823, which terminated remaining arms sanctions against Rwanda.

DATES: This rule is effective September 25, 2008.

FOR FURTHER INFORMATION CONTACT: Nicholas Memos, Office of Defense Trade Controls Policy, Department of State, Telephone (202) 663-2804 or Fax (202) 261-8199; e-mail DDTCResponseTeam@state.gov.

SUPPLEMENTARY INFORMATION: On July 10, 2008, the UNSC adopted Resolution 1823, which terminated remaining prohibitions of defense exports to non-governmental entities and persons in Rwanda, and to such entities and persons in states neighboring Rwanda if such sale was intended for use within Rwanda, and which also terminated the prohibition of the resale or retransfer of defense items from the Government of Rwanda to any state neighboring Rwanda, or persons not in the service of the Government of Rwanda.

Regulatory Analysis and Notices

Administrative Procedure Act

This amendment involves a foreign affairs function of the United States and, therefore, is not subject to the procedures contained in 5 U.S.C. 553 and 554.

Regulatory Flexibility Act

Since this amendment is not subject to the procedures in 5 U.S.C 553, it does not require analysis under the Regulatory Flexibility Act.

Unfunded Mandates Act of 1995

This amendment does not involve a mandate that will result in the expenditure by state, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This amendment has been found not to be a major rule within the meaning of the Small Business Regulatory Enforcement Fairness Act of 1996.

Executive Orders 12372 and 13132

This amendment will not have substantial direct effects on the States, on the relationship between the national government and the States, or on the distribution of power and responsibilities among the various levels of government. Therefore, in accordance with Executive Order 13132, it is determined that this amendment does not have sufficient federalism implications to require consultations or warrant the preparation of a federalism summary impact statement. The regulations implementing Executive Order 12372 regarding intergovernmental consultation on Federal programs and activities do not apply to this amendment.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 126

Arms and munitions, Exports.

Accordingly, for the reasons set forth above, Title 22, Chapter I, Subchapter M, Part 126 is amended as follows:

PART 126—GENERAL POLICIES AND PROVISIONS

1. The authority citation for Part 126 continues to read as follows:

Authority: Secs. 2, 38, 40, 42 and 71, Pub. L. 90-629, 90 Stat. 744 (22 U.S.C. 2752, 2778, 2780, 2791 and 2797); E.O. 11958, 42 FR 4311; 3 CFR, 1977 Comp., p. 79; 22 U.S.C. 2651a; 22 U.S.C. 287c; E.O. 12918, 59 FR 28205; 3 CFR, 1994 Comp., p. 899; Sec. 1225, Pub. L. 108-375.

§ 126.1 [Amended]

2. In § 126.1:

A. Remove paragraph (c)(8).

B. Redesignate paragraphs (c)(9), (c)(10), and (c)(11) as paragraphs (c)(8), (c)(9), and (c)(10), respectively.

C. Remove and reserve paragraph (h).

Dated: September 11, 2008.
John C. Rood,
Acting Under Secretary for Arms Control and International Security, Department of State.

[FR Doc. E8-22578 Filed 9-24-08; 8:45 am]

BILLING CODE 4710-25-P